DEPARTMENT OF LABOR

Employment and Training Administration

[TA-W-37,786 and 786A]

Andover Apparel Group, Incorporated, Pisgah, AL and New York, NY; Amended Certification Regarding Eligibility To Apply for Worker Adjustment Assistance

In accordance with Section 223 of the Trade Act of 1974 (19 U.S.C. 2273) the Department of Labor issued a Notice of Certification Regarding Eligibility to Apply for Worker Adjustment Assistance on August 1, 2000, applicable to workers of Andover Apparel Group, Incorporated, formerly Andover Togs, Incorporated, Pisgah, Alabama. The notice was published in the Federal Register on August 25, 2000 (65 FR 51848).

At the request of the petitioners, the Department reviewed the certification for workers of the subject firm. The company reports that worker separations occurred at the New York, New York location of Andover Apparel Group, Incorporated, formerly Andover Togs, Incorporated, when the company closed in June, 2000. The New York, New York location provided administrative functions including accounting, designing, sales, and purchasing for the subject firms' production facility located in Pisgah, Alabama. The workers produced children's apparel, primarily girls' tops and bottoms.

Based on these findings, the Department is amending the certification to include workers of Andover Apparel Group, Incorporated, formerly Andover Togs, Incorporated, New York, New York.

The intent of the Department's certification is to include all workers of Andover Apparel Group, Incorporated, formerly Andover Togs, Incorporated who were adversely affected by increased imports.

The amended notice applicable to TA-W-37,786 is hereby issued as follows:

All workers of Andover Apparel Group, Incorporated, formerly Andover Togs, Incorporated, Pisgah, Alabama (TA-W-37,786) and New York, New York (TA-W-37,786A) who became totally or partially separated from employment on or after June 2, 1999 through August 1, 2002 are eligible to apply for adjustment assistance under Section 223 of the Trade Act of 1974.

Signed at Washington, DC this 23rd day of January, 2001.
Linda G. Poole,
Certifying Officer, Division of Trade Adjustment Assistance.

[FR Doc. 01-3298 Filed 2-7-01; 8:45 am]

BILLING CODE 4510-30-M